ENVIRONMENTAL PROTECTION AGENCY

[ER-FRL-6618-5]

Environmental Impact Statements; Notice of Availability

Responsible Agency: Office of Federal Activities, General Information (202) 564-7167 OR www.epa.gov/oeca/ofa

Weekly receipt of Environmental Impact Statements

Filed May 21, 2001 Through May 25, 2001

Pursuant to 40 CFR 1506.9.

EIS No. 010175, DRAFT EIS, AFS, ID, Hidden Cedar Project, Road Construction and Watershed Restoration, Idaho Panhandle National Forest, St. Joe Ranger District, Benewah, Shoshone, Clearwater and Latah Counties, ID, Comment Period Ending: July 16, 2001, Contact: Kimberly Johnson (208) 245-6072.

EIS No. 010186, FINAL EIS, AFS, MT, Maudlow-Toston Post-Fire Salvage Sale, Harvesting Burnt Timber, Implementation, Helena National Forest, Townsend Ranger District, Broadway County, MT, Wait Period Ending: July 02, 2001, Contact: Jerry Meyer (406) 449-5201.

EIS No. 010187, DRAFT EIS, USA, TX, Programmatic EIS—Fort Sam Houston, Camp Bullis, and Canyon Lake Recreation Area Master Plan, Implementing Revisions to the Existing 1988 Land Use Plan, City of San Antonio, TX, Comment Period Ending: July 16, 2001, Contact: Greg Brewer (793) 692-9220.

EIS No. 010188, DRAFT EIS, AFS, MT, Burned Area Recovery, Proposal to Reduce Fuels, Improve Watershed Conditions and Reforest Burned Lands, Sula, Darby, West Fork and Stevensville Ranger Districts, Bitterroot National Forest, Ravalli County, MT, Comment Period Ending: July 16, 2001, Contact: Craig Bobzien (406) 363-7100.

EIS No. 010189, FINAL EIS, AFS, OR, South Bend Weigh and Safety Station Establishment, Special Use Permit for Construction, Maintenance and Operation, Deschute National Forest Lands along US 97 near the Newberry National Volcanic Monument, Deschutes County, OR, Wait Period Ending: July 02, 2001, Contact: Chris Mickle (541) 383-4769.

EIS No. 010190, FINAL EIS, BLM, UT, CO, NM, Williams, Questar, Kern River Pipeline Project, To Approve a Petroleum Products Pipeline, and one or two Natural Gas Pipelines and To Amend Forest Plan, UT, NM, and CO, Wait Period Ending: July 02, 2001, Contact: LaVerne Steah (801) 539-4114.

EIS No. 010191, FINAL EIS, AFS, MN, Boundary Waters Canoe Area Wilderness Fuel Treatment, Implementation, Superior National Forest, Cook, Lake and St. Louis, MN, Wait Period Ending: July 02, 2001, Contact: Joyce Thompson (218) 626-4317.

EIS No. 010192, DRAFT EIS, BPA, OR, Condon Wind Project, To Execute One or More Power Purchase and Transmission Services Agreements To Acquire and Transmit up to the Full Electrical Output, NPDES Permits and Right-of-Way Permit for Public Land, Gilliam County, OR, Comment Period Ending: July 16, 2001, Contact: Sarah T. Branum (503) 230-5115.

EIS No. 010193, FINAL EIS, FAA, Programmatic EIS-Licensing Launch Vehicles, Implementation, Issuing a Launch License, Wait Period Ending: July 20, 2001, Contact: Michon Washington (202) 267-9305.

Dated: May 29, 2001.
Ken Mittelholtz,
Environmental Protection Specialist, Office of Federal Activities.

[FR Doc. 01-13830 Filed 5-31-01; 8:45 am]

BILLING CODE 6560-50-P